DEPARTMENT OF AGRICULTURE

Forest Service

National Advisory Committee for Implementation of the National Forest System Land Management Planning Rule

AGENCY: Forest Service, USDA.

ACTION: Notice of meeting.

SUMMARY: The National Advisory Committee for Implementation of the National Forest System Land Management Planning Rule will meet in Salt Lake/West Valley City, Utah via webinar/conference call. The Committee operates in compliance with the Federal Advisory Committee Act (FACA) (Pub. L. 92-463). The purpose of the Committee is to provide advice and recommendations on the implementation of the National Forest System Land Management Rule and to continue deliberations on formulating advice to the Secretary on the Proposed Land Management Planning Directives. The meeting is also open to the public.

DATES: The meeting will be held, via webinar/conference call, on Tuesday and Wednesday, June 25-26, 2013, from 8:00 a.m. to 6:00 p.m. and on Thursday, June 27, 2013, from 8:00 a.m. to 11:30 p.m., Mountain Standard Time.

ADDRESSES: The meeting will be held at the Embassy Suites Salt Lake/West Valley City, 3524 South Market Street, West Valley City, Utah 84119 via webinar/conference call. For anyone who would like to attend via webinar/conference call, please visit the following Web site: http://www.fs.usda.gov/main/planningrule/committee or contact Chalonda Jasper at cjasper@fs.fed.us for further details.

Written comments may be submitted as described under Supplementary Information. All comments, including names and addresses when provided, are placed in the record and are available for public inspection and copying. The public may inspect comments received at 1601 N Kent Street, Arlington, VA 22209, 6th Floor. Please contact, Chalonda Jasper at 202-260-9400, or cjasper@fs.fed.us, to facilitate entry into the building to view comments.

FOR FURTHER INFORMATION CONTACT: Chalonda Jasper, Ecosystem Management Coordination, 202-260-9400, cjasper@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The following business will be conducted: (1) Continue deliberations on formulating advice for the Secretary on the Proposed Land Management Planning Directives, (2) Discuss findings from Committee working groups, and (3) Administrative tasks.

Further information, including the meeting agenda, will be posted on the Planning Rule Advisory Committee Web site at http://www.fs.usda.gov/main/planningrule/committee.

Anyone who would like to bring related matters to the attention of the Committee may file written statements with the Committee staff before the meeting. Written comments must be sent to USDA Forest Service, Ecosystem Management Coordination, 201 14th Street SW., Mail Stop 1104, Washington, DC 20250-1104. Comments may also be sent via email to Chalonda Jasper at cjasper@fs.fed.us, or via facsimile to 703-235-0138. A summary of the meeting will be posted at http://www.fs.usda.gov/main/planningrule/committee within 21 days of the meeting.

Meeting Accommodations: If you require sign language interpreting, assistive listening devices or other reasonable accommodation, please submit request prior to the meeting by contacting Chalonda Jasper at 202-260-9400, cjasper@fs.fed.us. All reasonable accommodation requests are managed on a case-by-case basis.

Dated: May 31, 2013.
Calvin N. Joyner,
Associate Deputy Chief, National Forest System.

[FR Doc. 2013-13452 Filed 6-5-13; 8:45 am]

BILLING CODE 3410-11-P